DEPARTMENT OF THE INTERIOR

National Park Service

Field Office Technical Guidelines

AGENCY: National Park Service, Interior.

ACTION: Proposed Amendment two (Amdt. 2) to Southeast Region Order No. 6, Delegation of Authority, approved August 30, 1977, and as amended April 28, 1989.

SUMMARY: Pursuant to Department of the Interior 200 D.M. 2.4 and 200 D.M. 1.10, the National Park Service announces the proposed Amendment two (Amdt. 2) to Southeast Region Order No. 6, Delegation of Authority, to clarify the authority of Field Land Resources Officers.

FOR FURTHER INFORMATION CONTACT: Patricia A. Hooks, Acting Regional Director, National Park Service, Southeast Region, Atlanta Federal Center, 1924 Building, 100 Alabama Street, SW., Atlanta, GA 30303. Telephone: 404-562-3148.

SUPPLEMENTARY INFORMATION: Proposed Amendment (Amdt. 2) is as follows: Southeast Region Order No. 6, approved August 30, 1977, and published in the Federal Register of November 17, 1977, (42 FR 59428), and as amended (Amdt. 1) and published in the Federal Register of April 28, 1989, (54 FR 18337), set forth in section 2 certain authority and limitations on authority to officers and employees. This amendment changes paragraph (i) to read as follows: Section 2, Delegation. * * *

(i) Field Land Resources Officers. All Field Land Resources Officers are authorized to execute their land acquisition program, including contracting for acquisition of lands and related properties, and acceptance of offers to sell to, or exchange with the United States lands or interests in land when the amount does not exceed $500,000.00; and to execute all necessary agreements and conveyances incidental thereto; to accept deeds conveying to the United States lands or interests in lands; to approve on behalf of the National Park Service offers of settlement in condemnation cases when the amount involved does not exceed $250,000.00; and to approve claims for reimbursement under Pub. L. 91-646, as amended.

Dated: October 24, 2003.
Charlie Powell,
Acting Regional Director, Southeast Region.

[FR Doc. 03-31931 Filed 12-29-03; 8:45 am]

BILLING CODE 4310-C6-M